DEPARTMENT OF EDUCATION

Applications for New Awards; Bipartisan Budget Act of 2018—Emergency Assistance to Institutions of Higher Education Program

AGENCY: Office of Postsecondary Education, Department of Education.

ACTION: Notice; correction.

SUMMARY: On May 3, 2018, we published in the Federal Register a notice inviting pre-applications and applications for the fiscal year (FY) 2018 Emergency Assistance to Institutions of Higher Education Program, Catalog of Federal Domestic Assistance (CFDA) number 84.938T. This notice corrects the Application and Submission Instructions.

DATES: The correction is applicable May 21, 2018.

FOR FURTHER INFORMATION CONTACT: Beatriz Ceja, U.S. Department of Education, 400 Maryland Avenue SW, Room 260-04, Washington, DC 20202-6200. Telephone: (202) 453-6239. Email: Beatriz.Ceja@ed.gov.

If you use a telecommunications device for the deaf (TDD) or a text telephone (TTY), call the Federal Relay Service (FRS), toll free, at 1-800-877-8339.

SUPPLEMENTARY INFORMATION On May 3, 2018, we published in the Federal Register a notice inviting pre-applications and applications for new awards for the FY 2018 Emergency Assistance to Institutions of Higher Education Program (CFDA number 84.938T) (83 FR 19550). This notice corrects the Application and Submission Instructions section of that document by clarifying that applications are to be submitted via email, and not through Grants.gov.

Correction

In FR Doc. 2018-09417, we are revising the sentence beginning on page 19551 in the middle column, at line 17 from the top of the page, under the heading “Content and Form of Application Submission” to delete the words “through Grants.gov” and insert in their place “at EAIProgram@ed.gov”.

Program Authority: Bipartisan Budget Act of 2018, Public Law 115-123.

Accessible Format: Individuals with disabilities can obtain this document and a copy of the pre-application and the application package in an accessible format (e.g., braille, large print, audiotape, or compact disc) on request to the program contact person listed under FOR FURTHER INFORMATION CONTACT.

Electronic Access to This Document: The official version of this document is the document published in the Federal Register. You may access the official edition of the Federal Register and the Code of Federal Regulations via the Federal Digital System at www.gpo.gov/fdsys. At this site you can view this document, as well as all other documents of this Department published in the Federal Register, in text or Portable Document Format (PDF). To use PDF you must have Adobe Acrobat Reader, which is available free at the site.

You also may access documents of the Department published in the Federal Register by using the article search feature at www.federalregister.gov. Specifically, through the advanced search feature at this site, you can limit your search to documents published by the Department.

Dated: May 16, 2018.
Frank T. Brogan,
Principal Deputy Assistant Secretary and delegated the duties of the Assistant Secretary, Office of Planning, Evaluation and Policy Development, delegated the duties of the Assistant Secretary, Office of Postsecondary Education.

[FR Doc. 2018-10799 Filed 5-18-18; 8:45 am]

BILLING CODE 4000-01-P